DEPARTMENT OF VETERANS AFFAIRS

[OMB Control No. 2900-0098]

Agency Information Collection (Dependents' Application for VA Educational Benefits) Activity Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before May 23, 2012.

ADDRESSES: Submit written comments on the collection of information through www.Regulations.gov or to VA's OMB Desk Officer, OMB Human Resources and Housing Branch, New Executive Office Building, Room 10235, Washington, DC 20503 (202) 395-7316. Please refer to “OMB Control No. 2900-0098” in any correspondence

FOR FURTHER INFORMATION CONTACT: Denise McLamb, Enterprise Records Service (005R1B), Department of Veterans Affairs, 810 Vermont Avenue NW., Washington, DC 20420, (202) 632-7479, FAX (202) 632-7583 or email denise.mclamb@va.gov. Please refer to “OMB Control No. 2900-0098.”

SUPPLEMENTARY INFORMATION: Title: Dependents' Application for VA Educational Benefits (Under Provisions of Chapters 33 and 35, of title 38, U.S.C.), VA Form 22-5490.

OMB Control Number: 2900-0098.

Type of Review: Extension of a currently approved collection.

Abstract: VA Form 22-5940 is completed by spouses, surviving spouses and children of veterans or servicemembers to apply for Survivors' and Dependents' Educational Assistance (DEA) and Post-9/11 GI Bill Marine Gunnery Sergeant John David Fry Scholarship (Fry Scholarship) benefits. VA will use the information collected to determine whether a claimant qualifies for DEA or Fry Scholarship benefits and if the program of education the applicant wishes to pursue is approved for assistance.

An agency may not conduct or sponsor, and a person is not required to respond to a collection of information unless it displays a currently valid OMB control number. The Federal Register Notice with a 60-day comment period soliciting comments on this collection of information was published on January 25, 2012, at page 3844.

Affected Public: Individuals or households

Estimated Annual Burden:

a. VA Form 22-5940—14,870.

b. Electronic submission—7,407.

Estimated Average Burden Per Respondent:

a. VA Form 22-5940—45 minutes.

b. Electronic submission—25 minutes.

Frequency of Response: One time.

Estimated Number of Respondents:

a. VA Form 22-5940—19,827.

b. Electronic submission—17,777.

Dated: April 18, 2012.
By direction of the Secretary.
Denise McLamb,
Program Analyst, Enterprise Records Service.

[FR Doc. 2012-9669 Filed 4-20-12; 8:45 am]

BILLING CODE 8320-01-P